DEPARTMENT OF HEALTH AND HUMAN SERVICES

National Institutes of Health

Office of the Director, National Institutes of Health; Amended Notice of Meeting

Notice is hereby given of a change in the information provided in the Federal Register of the Council of Councils, October 29, 2012, 11 a.m. to October 29, 2012, 1 p.m., National Institutes of Health, Building 1, 1 Center Drive, Wilson Hall, Bethesda, MD, 20892 which was published in the Federal Register on October 3, 2012, 77FR60445.

This notice is being amended to correct the room number for the Executive Secretary to Room 260 and to remove statements on the original notice that do not apply to closed meetings. Since the entire meeting will be closed to the public in accordance with provisions set forth in sections 552(b)(c)(4) and 552b(c)(9)(B), the agenda and proposals will not be posted on the Council of Councils home page. The public procedures for filing comments or attending the meeting were also included in error.

Dated: October 4, 2012.
Carolyn A. Baum,
Program Analyst, Office of Federal Advisory Committee Policy.

[FR Doc. 2012-24940 Filed 10-10-12; 8:45 am]

BILLING CODE 4140-01-P